DEPARTMENT OF THE TREASURY

Agency Information Collection Activities; Submission for OMB Review; Comment Request; U.S. Income Tax Return Forms for Individual Taxpayers

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 21, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Internal Revenue Service (IRS)

Title: U.S. Income Tax Return for Individual Taxpayers.

OMB Control Number: 1545-0074.

Forms: Form 1040 and affiliated return forms.

Type of Review: Revision of a currently approved collection.

Description: IRC sections 6011 & 6012 of the Internal Revenue Code require individuals to prepare and file income tax returns annually. These forms and related schedules are used by individuals to report their income subject to tax and compute their correct tax liability. This information collection request (ICR) covers the actual reporting burden associated with preparing and submitting the prescribed return forms, by individuals required to file Form 1040 and any of its' affiliated forms as explained in the attached table.

There have been changes in regulatory guidance related to various forms approved under this approval package during the past year. There have been additions and removals of forms included in this approval package. A summary of the burden on respondents is given below and fuller discussion is available in the supporting documents submitted to OMB.

Affected Public: Individuals or Households, Farms.

Estimated Number of Respondents: 163,600,000.

Frequency of Response: Annually.

Estimated Total Number of Annual Responses: 163,600,000.

Estimated Time per Response: 12 hours, 31 minutes.

Estimated Total Annual Burden Hours: 2,048,000,000.

Authority: 44 U.S.C. 3501 et seq.

Dated: December 16, 2021.
Spencer W. Clark,
Treasury PRA Clearance Officer.

Estimated Average Taxpayer Burden for Individuals Filing a 1040 by Activity
Primary form filed or type of taxpayer | Primary form filed or type of taxpayer: Percentage of returns | Time burden: Average time burden (Hours) ***: Total time | Time burden: Average time burden (Hours) ***: Record keeping | Time burden: Average time burden (Hours) ***: Tax planning | Time burden: Average time burden (Hours) ***: Form completion and submission | Time burden: Average time burden (Hours) ***: All other | Money burden: Average cost (dollars) | Money burden: Total monetized burden (dollars)
All Taxpayers | 100 | 13 | 6 | 2 | 4 | 1 | $240 | $460
Type of Taxpayer |  |  |  |  |  |  |  |
Nonbusiness ** | 72 | 9 | 3 | 1 | 3 | 1 | 160 | 290
Business ** | 28 | 22 | 12 | 4 | 5 | 2 | 470 | 900
Note: This table does not include 1040NR, 1040NR-EZ, and 1040X filers.
Detail may not add to total due to rounding. Dollars rounded to the nearest $10.
** A “business” filer files one or more of the following with Form 1040: Schedule C, C-EZ, E, F, Form 2106, or 2106-EZ. A “non-business” filer does not file any of these schedules or forms with Form 1040.
*** Times are rounded to nearest hour.

The following table shows the average burden estimate for individual entities by total positive income. Total positive income is defined as the sum of all positive income amounts reported on the return.

Taxpayer Burden Statistics by Total Positive Income Quintile
All filers | Average time (hours) | Average out-of-pocket costs | Average total monetized burden
Total positive income quintiles:
0 to 20 | 8.1 | $79 | $144
20 to 40 | 11.2 | 130 | 237
40 to 60 | 11.6 | 172 | 318
60 to 80 | 12.8 | 241 | 455
80 to 100 | 19.2 | 600 | 1,161
Wage and Investment Filers
Total Income Decile:
0 to 20 | 7.2 | 70 | $127
20 to 40 | 9.6 | 117 | 212
40 to 60 | 9.0 | 150 | 273
60 to 80 | 8.9 | 198 | 370
80 to 100 | 10.1 | 333 | 658
Self Employed Filers
Total Income Decile:
0 to 20 | 12.9 | 126 | $228
20 to 40 | 19.2 | 190 | 358
40 to 60 | 20.9 | 250 | 475
60 to 80 | 21.4 | 333 | 642
80 to 100 | 27.1 | 833 | 1,599

[FR Doc. 2021-27704 Filed 12-21-21; 8:45 am]

BILLING CODE 4830-01-P